DEPARTMENT OF LABOR

Employment and Training Administration

[TA-W-51,429, et al.]

Roseburg Forest Products Headquartered in Dillard, OR; Amended Certification Regarding Eligibility To Apply for Worker Adjustment Assistance

In accordance with Section 223 of the Trade Act of 1974 (19 U.S.C. 2273) the Department Labor issued a Certification of Eligibility to Apply for Worker Adjustment Assistance on June 2, 2003, applicable to workers of Roseburg Forest Products, Headquartered in Dillard, Oregon. The notice will be published soon in the Federal Register.

At the request of the State agency, the Department reviewed the certification for workers of the subject firm. The workers are engaged in the production of plywood.

New findings show that worker separations occurred at the Machine Shop and the Wood Department of Roseburg Forest Products, Dillard, Oregon. Workers at the Machine Shop build and tool equipment for the saw mills and plywood Departments of the subject firm. Workers at the Wood Department provide logs to the many plywood Departments of the subject firm.

Accordingly, the Department is amending the certification to include workers at the Machine Shop and the Wood Department at Roseburg Forest Products and to correct the city location of the Plywood Division, Plant 3 to read Roseburg, Oregon.

The intent of the Department's certification is to include all workers of Roseburg Forest Products who were adversely affected by increased imports.

The amended notice applicable to TA-W-51,429 is hereby issued as follows:

All workers of Roseburg Forest Products, Headquartered in Dillard, Oregon (TA-W-51,429), Plywood Division—Plants 1 & 2, Dillard, Oregon (TA-W-51,429A), Plywood Division—Plant 3, Roseburg, Oregon (TA-W-51,429B), Plywood Division—Plant 4, Riddle, Oregon (TA-W-51,429C), Plywood Division—Plant 6, Coquille, Oregon (TA-W-51,429D), Plywood Division—Plant 7, Weed, California (TA-W-51,429E), Machine Shop, Dillard, Oregon (TA-W-51,429F), and Wood Department, Dillard, Oregon (TA-W-51,429G), who became totally or partially separated from employment on or after April 2, 2002, through June 2, 2005, are eligible to apply for adjustment assistance under Section 223 of the Trade Act of 1974.

Signed at Washington DC, this 20th day of June 2003.
Richard Church,
Certifying Officer, Division of Trade Adjustment Assistance.

[FR Doc. 03-16906 Filed 7-2-03; 8:45 am]

BILLING CODE 4510-30-P